DEPARTMENT OF COMMERCE

Foreign-Trade Zones Board

[Docket 33-2010]

Foreign-Trade Zone 22—Chicago, IL; Application for Reorganization/Expansion Under Alternative Site Framework

An application has been submitted to the Foreign-Trade Zones (FTZ) Board (the Board) by the Illinois International Port District, grantee of FTZ 22, requesting authority to reorganize and expand the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on May 7, 2010.

FTZ 22 was approved by the Board on October 29, 1975 (Board Order 108, 40 FR 51242; November 4, 1975) and expanded on April 9, 1987 (Board Order 353, 52 FR 12217; April 15, 1987); on December 11, 1992 (Board Order 614, 57 FR 61044; December 23, 1992); on November 21, 2000 (Board Order 1127, 65 FR 76218; December 6, 2000); on December 19, 2003 (Board Order 1313, 69 FR 49; January 2, 2004); on May 9, 2005 (Board Order 1390, 70 FR 29277; May 20, 2005); and, on August 21, 2006 (Board Order 1474, 71 FR 51184; August 29, 2006). The general-purpose zone includes the following sites: Site 1 (51 acres)—Lake Calumet Harbor Terminal Facility, 12200/12255 South Stony Island Avenue, Chicago (Cook County); Site 2 (578 acres)—Illinois Diversatech Campus Corporation, One Diversatech Drive, Manteno (Kankakee County); Site 3 (8 acres)—Gotoh Distribution Services, Inc., 703 Foster Avenue, Bensenville (Du Page County); Site 4 (8 acres)—Meiko America, Inc., Gerry Drive and Hanson Court, Wood Dale (Du Page County); Site 5 (1,468 acres)—CenterPoint Intermodal Center, 20901 West Walter Strawn Drive, Elwood (Will County); Site 6 (317 acres)—Rock Run Business Park, Houlbolt Road and Interstate 80, Joliet (Will County); Site 7 (21 acres) O'Hare Express North Business Park, 893 Upper Express Drive, Chicago (Cook County); Site 8 (102 acres) ProLogis Park 80, Rt. 47 & ProLogis Parkway, Morris (Grundy County); Site 9 (12 acres) Centex Industrial Park, 1717 Busse Road, Elk Grove Village (Cook County); Site 10 (43 acres) Bolingbrook Distribution Center, 1701 Remington Boulevard, Bolingbrook (Will County); Site 11 (137 acres) Heartland Corporate Center, 21228 SW Frontage Road, Shorewood (Will County); Site 12 (17 acres) LG Electronics, 1251 115th Street, Bolingbrook (Will County); Site 13 (4.6 acres) Henry Bath Iroquois Landing, 9301 South Kreiter Avenue, Chicago (Cook County); Site 14 (9 acres) Exel, Inc., 3702-3710 River Road, Franklin Park (Cook County); Site 15 (7.5 acres) Henry Bath, 1550 East 98th Place, Chicago (Cook County); Site 16 (32 acres) BMW, 456 Internationale Parkway South, Minooka (Grundy County); Site 17 (10 acres) Noramco-Chicago, Inc., 12228 New Avenue, Lemont (Cook County); and, Site 18 (0.5 acres) Nagata Technology, Inc., 400 Lively Boulevard, Elk Grove Village (Cook County). Sites 8-11 are subject to a sunset provision that would terminate authority on September 30, 2011, where no activity has occurred under FTZ procedures before that date, and Sites 15-18 are subject to a time limit of March 31, 2011.

The grantee's proposed service area under the ASF would be Cook, Du Page, Grundy, Kankakee, Kendall, Lake and Will Counties and portions of McHenry and Kane Counties, as described in the application. If approved, the grantee would be able to serve sites throughout the service area based on companies' needs for FTZ designation. The proposed service area is within and adjacent to the Chicago Customs and Border Protection port of entry.

The applicant is requesting authority to reorganize its existing zone project as follows: Sites 1, 2, 5, 6, 7, 8, 10, 11, 13 and 15 would become “magnet” sites; and, Sites 3, 4, 9, 12, 14, 16, 17 and 18 would become “usage-driven” sites. The ASF allows for the possible exemption of one magnet site from the “sunset” time limits that generally apply to sites under the ASF, and the applicant proposes that Site 1 be so exempted. The applicant is also requesting approval of an additional “usage-driven” site in Du Page County: Proposed Site 19 (9.7 acres)—Eastman Kodak Company, 127 East Elk Trail Boulevard, Carol Stream. Since the ASF only pertains to establishing or reorganizing a general-purpose zone, the application would have no impact on FTZ 22's authorized subzones.

In accordance with the Board's regulations, Claudia Hausler of the FTZ Staff is designated examiner to evaluate and analyze the facts and information presented in the application and case record and to report findings and recommendations to the Board.

Public comment is invited from interested parties. Submissions (original and 3 copies) shall be addressed to the Board's Executive Secretary at the address below. The closing period for their receipt is July 19, 2010. Rebuttal comments in response to material submitted during the foregoing period may be submitted during the subsequent 15-day period to August 2, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Claudia Hausler at Claudia.Hausler@trade.gov or (202) 482-1379.

Dated: May 11, 2010.
Andrew McGilvray,
Executive Secretary.

[FR Doc. 2010-11983 Filed 5-18-10; 8:45 am]

BILLING CODE 3510-DS-P